DEPARTMENT OF JUSTICE

Notice of Lodging of Consent Decree Pursuant to the Comprehensive Environmental Response, Compensation, and Liability Act

In accordance with Departmental policy, 28 CFR 50.7, notice is hereby given that a proposed consent decree in United States v. Zidell Marine Corporation, Civil Action No. C06-cv-5437RJB was lodged on January 20, 2006 with the United States District Court for the Western District of Washington. This consent decree requires the defendants to perform injunctive relief, requiring the cleanup of the Head of the Hylebos Waterway Problem Area of the Commencement Bay/Nearshore Tideflats Superfund Site.

The Department of Justice will receive, for a period of thirty (30) days from the date of this publication, comments relating to the proposed consent decree. Comments should be addressed to the Assistant Attorney General, Environmental and Natural Resources Division, P.O. Box 7611, U.S. Department of Justice, Washington, DC 20044-7611, and should refer to United States v. Zidell Marine Corporation, DOJ Ref. 90-11-2-726/3.

The proposed consent decree may be examined at the office of the United States Attorney, 601 Union Street, Suite 5100, Seattle, WA 98101 and at U.S. EPA Region 10, 1200 Sixth Avenue, Seattle, WA 98101. During the comment period, the consent decree may be examined on the following Department of Justice Web site, http://www.usdoj.gov/enrd/open.html. Copies of the consent decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $6.00 for United States v. Zidell Marine Corporation, (25 cents per page reproduction cost) payable to the U.S. Treasury.

Robert Maher,
Assistant Section Chief, Environmental Enforcement Section.

[FR Doc. 06-1186 Filed 2-8-06; 8:45 am]

BILLING CODE 4410-15-M